DEPARTMENT OF DEFENSE

Office of the Secretary

Defense Health Board; DoD Task Force on the Prevention of Suicide by Members of the Armed Forces; Meeting

AGENCY: Department of Defense (DoD).

ACTION: Notice of meeting.

SUMMARY: Pursuant to the Federal Advisory Committee Act of 1972 (5 U.S.C., Appendix as amended), the Sunshine in the Government Act of 1976 (5 U.S.C. 552b, as amended), and 41 CFR 102-3.150, and in accordance with section 10(a)(2) of Public Law, the DoD Task Force on the Prevention of Suicide by Members of the Armed Forces (hereafter, Task Force) will meet on February 11, 2010, to gather information pertaining to suicide and suicide prevention programs for members of the Armed Services. Subject to the availability of space, the meeting is open to the public.

DATES: The meeting will be held from 9 a.m. to 4 p.m. on February 11, 2010.

ADDRESSES: The meeting will be held at the Norfolk Waterside Marriott, 235 E Main Street, Norfolk, Virginia 23510.

Written statements may be mailed to the address under FOR FURTHER INFORMATION CONTACT, e-mailed to dhb@ha.osd.mil or faxed to (703) 681-3317.

FOR FURTHER INFORMATION CONTACT: Col. JoAnne McPherson, Executive Secretary, DoD Task Force on Suicide Prevention by Members of the Armed Forces, One Skyline Place, 5205 Leesburg Pike, Suite 810, Falls Church, Virginia 22041-3206, (703) 681-3279, ext. 162, Fax: (703) 681-3317, JoAnne.Mcpherson@tma.osd.mil.

SUPPLEMENTARY INFORMATION:

Agenda

On February 11, 2010, the Task Force will receive briefings from community-based experts concerning efforts related to suicide and suicide prevention programs. Pursuant to 5 U.S.C. 552b, as amended, and 41 CFR 102-3.140 through 102-3.165 and subject to availability of space, the meeting is open to the public.

Additional information, agenda updates, and meeting registration are available online at the Defense Health Board Web site, http://www.ha.osd.mil/dhb. The public is encouraged to register for the meeting.

Written Statements

Any member of the public wishing to provide input to the Task Force should submit a written statement in accordance with 41 CFR 102-3.140(C) and section 10(a)(3) of the Federal Advisory Committee Act, and the procedures described in this notice. Written statement should be not longer than two type-written pages and must address the following detail: The issue, discussion, and a recommended course of action. Supporting documentation may also be included as needed to establish the appropriate historical context and to provide any necessary background information.

Individuals desiring to submit a written statement may do so through the Board's Designated Federal Officer (DFO) (see FOR FURTHER INFORMATION CONTACT). However, if the written statement is not received at least 10 calendar days prior to the meeting, which is subject to this notice, then it may not be provided to or considered by the Task Force until the next open meeting.

The DFO will review all timely submissions with the Task Force Co-Chairpersons, and ensure they are provided to members of the Task Force before the meeting that is subject to this notice. After reviewing the written comments, the Co-Chairpersons and the DFO may choose to invite the submitter of the comments to orally present their issue during an open portion of this meeting or at a future meeting.

The DFO, in consultation with the Task Force Co-Chairpersons, may, if desired, allot a specific amount of time for members of the public to present their issues for review and discussion by the Task Force.

Special Accommodations

If special accommodations are required to attend (sign language, wheelchair accessibility) please contact Ms. Severine Bennett at (202) 374-5755 or bennett_severine@bah.com by February 1, 2010.

Dated: January 21, 2010.
Mitchell S. Bryman,
Alternate OSD Federal Register Liaison Officer, Department of Defense.

[FR Doc. 2010-1480 Filed 1-25-10; 8:45 am]

BILLING CODE 5001-06-P